SECURITIES AND EXCHANGE COMMISSION

Sunshine Act Meetings

TIME AND DATE: Notice is hereby given, pursuant to the provisions of the Government in the Sunshine Act, Public Law 94-409, that the Commission will co-host the SEC-NYU Dialogue on Securities Markets—Shareholder Engagement on Friday, January 19, 2018, beginning at 9:10 a.m. (ET).

PLACE: The meeting will be held at the New York University's Salomon Center for the Study of Financial Institutions, 44 W. 4th Street, New York, NY 10112.

STATUS: This meeting will begin at 9:10 a.m. (ET) and will be open to the public. Attendees can pre-register for in-person attendance or webcast. The meeting will be webcast live by NYU and later archived on the Commission's website at www.sec.gov.

MATTERS TO BE CONSIDERED: The event is scheduled to include welcome remarks by SEC Chairman Jay Clayton, concluding remarks by SEC Commissioner Kara Stein, and panel discussions that Commissioners may attend. The panel discussions will address, among other matters, the increasing ownership of public companies by large institutional investors, the influence of activist investors, the role of proxy advisory services, and other changes in the way investors and public companies engage with each other.

This Sunshine Act notice is being issued because a majority of the Commission may attend the meeting.

CONTACT PERSON FOR MORE INFORMATION: For further information and to ascertain what, if any, matters have been added, deleted or postponed; please contact Brent J. Fields from the Office of the Secretary at (202) 551-5400.

Dated: January 11, 2018.
Brent J. Fields,
Secretary.

[FR Doc. 2018-00738 Filed 1-12-18; 11:15 am]

BILLING CODE 8011-01-P